DEPARTMENT OF HEALTH AND HUMAN SERVICES

Centers for Disease Control and Prevention

[60Day-26-1335; Docket No. CDC-2025-1047]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Maritime Activity Illness and Death Reporting. This data collection is designed to ensure that CDC is able to prevent the introduction, transmission or spread of communicable diseases from foreign countries into the United States and includes requirements for reporting illnesses and deaths among maritime travelers to CDC.

DATES: CDC must receive written comments on or before March 16, 2026.

ADDRESSES: You may submit comments, identified by Docket No. CDC-2025-1047 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Maritime Activity Illness and Death Reporting (OMB Control No. 0920-1335, Exp. 1/31/2026)—Revision—National Center for Emerging and Zoonotic Infectious Diseases (NCEZID), Centers for Disease Control and Prevention (CDC).

Background and Brief Description

The goal of this information collection is to ensure that, consistent with the authorities in the Public Health Service Act and 42 CFR parts 70 and 71, CDC is able to prevent the introduction, transmission or spread of communicable diseases from foreign countries into the United States or from one State or possession into any other State or possession. This information collection focuses on collecting information necessary to conduct public health response and follow up related to certain illnesses and deaths among a ship's passengers or crew, including travelers who have disembarked or were removed from the ship due to illness or death. It includes requirements for reporting illnesses and deaths among maritime travelers to CDC.

To monitor respiratory illnesses occurring onboard cruise voyages, CDC further requests that ships submit cumulative reporting of acute respiratory illness (ARI) (e.g., influenza) once per voyage and earlier if 3% or more of crew or passengers are ill with an ARI. Thus, the purpose of this information collection is to facilitate the reporting of illness and deaths for travelers on maritime conveyances in CDC's reporting jurisdiction operating or intending to operate in U.S. waters. Historically, these maritime-related data collection activities were approved under different OMB control numbers, including ARI surveillance (0920-1335, Exp. 1/31/2026), maritime illness and death reporting (0920-0134, Exp. 3/31/2026), and pathogen-specific enhanced data collection (0920-0900, Exp. 9/30/2027). With this current submission, CDC is requesting a Revision with the aim of improving efficiency of CDC's maritime activities through aggregation under one OMB Control Number.

CDC requests OMB approval for an estimated 828 annual burden hours. There is no cost to respondents other than their time to participate.

Estimated Annualized Burden Hours
Type of respondents | Form name | Number of respondents | Number of responses per respondent | Average burden per response (in hours) | Total burden (in hours)
Maritime Vessel Operator/Ship Clinician | Maritime Conveyance Illness or Death Investigation (Sections 1-4) | 500 | 1 | 10/60 | 83
Maritime Vessel Operator/Ship Clinician | Maritime Conveyance Illness or Death Investigation (Section 5) | 100 | 1 | 5/60 | 8
Maritime Vessel Operator/Ship Clinician | Cruise Ship Cumulative ARI Reporting (<3%) | 100 | 40 | 10/60 | 667
Maritime Vessel Operator/Ship Clinician | Cruise Ship Cumulative ARI Reporting (3% or more) | 100 | 3 | 10/60 | 50
Maritime Vessel Operator/Ship Clinician | Influenza Outbreak Enhanced Data Collection | 10 | 1 | 10/60 | 2
Maritime Vessel Operator/Ship Clinician | TB Maritime Contact Investigation Worksheet | 17 | 1 | 10/60 | 3
Maritime Vessel Operator/Ship Clinician | Varicella Outbreak Enhanced Data Collection | 74 | 1 | 10/60 | 12
Maritime Vessel Operator/Ship Clinician | 42 CFR 71.35 Report of Death Illness During Stay in Port (verbal, no form) | 5 | 1 | 30/60 | 3
Total |  |  |  |  | 828

Jeffrey M. Zirger,
Lead, Information Collection Review Office, Office of Public Health Ethics and Regulations, Office of Science, Centers for Disease Control and Prevention.

[FR Doc. 2026-00719 Filed 1-14-26; 8:45 am]

BILLING CODE 4163-18-P